FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 012032-009.

Title: CMA CGM/MSC/Maersk Line North and Central China-US Pacific Coast Three-Loop Space Charter, Sailing and Cooperative Working Agreement.

Parties: A.P. Moller-Maersk A/S, CMA CGM S.A., and Mediterranean Shipping Company S.A.

Filing Party: Wayne R. Rohde, Esq.; Cozen O'Connor; 1627 I Street NW., Suite 1100, Washington, DC 20006.

Synopsis: The Amendment provides for some additional slot sale arrangements among the parties and reflects the impact of these new arrangements on the overall slots allocations. The amendment also adds new language authorizing Maersk Line to charter space to CMA CGM on its TP6 service.

Agreement No.: 012238.

Title: HLAG/Maersk Line Gulf-Central America Slot Charter Agreement.

Parties: Hapag-Lloyd AG and A.P. Moller-Maersk A/S trading under the name Maersk Line.

Filing Party: Joshua P. Stein; Cozen O'Connor; 1627 I Street NW., Suite 1100, Washington, DC 20006.

Synopsis: The agreement authorizes HLAG to charter space to Maersk Line in the trade between Houston, TX and San Juan, PR, on the one hand, and ports in Mexico, the Dominican Republic, Colombia, Panama, Costa Rica, Guatemala, and Honduras on the other hand.

Agreement No.: 012239.

Title: LGL/SC Line Cooperative Working Agreement.

Parties: Liberty Global Logistics LLC and SC Line.

Filing Party: Brooke F. Shapiro; Winston & Strawn LLP; 200 Park Avenue, New York, NY 10166.

Synopsis: The agreement authorizes LGL and SC Line to discuss areas of potential cooperation and possibly engage in the purchasing of space on vessels operated by one another in the trade from the U.S. East and Gulf Coasts to ports in the Caribbean, South America, Central America, Mediterranean, and Middle East.

Agreement No.: 201212-001.

Title: Marine Terminal Lease and Operating Agreement Between Broward County and King Ocean Services Limited (Cayman Islands) Incorporated.

Parties: Broward County and King Ocean Services Limited (Cayman Islands) Incorporated.

Filing Party: Candace J. Running; Broward County Board of County Commissioners; Office of the County Attorney; 1850 Eller Drive, Suite 502, Fort Lauderdale, FL 33316.

Synopsis: The amendment updates the rent rate under the agreement.

Dated: December 20, 2013.
By Order of the Federal Maritime Commission.
Karen V. Gregory,
Secretary.

[FR Doc. 2013-30902 Filed 12-26-13; 8:45 am]

BILLING CODE 6730-01-P